FEDERAL HOUSING FINANCE BOARD

12 CFR Part 906

FEDERAL HOUSING FINANCE AGENCY

12 CFR Part 1207

RIN 2590-AA28

Minority and Women Inclusion

AGENCIES: Federal Housing Finance Board; Federal Housing Finance Agency.

ACTION: Notice of proposed rulemaking; extension of comment period.

SUMMARY: The Federal Housing Finance Agency (FHFA) is issuing notice and opportunity for the public to comment on this proposed rule on minority and women inclusion. Section 1116 of the Housing and Economic Recovery Act of 2008 amended section 1319A of the Federal Housing Enterprises Financial Safety and Soundness Act of 1992, requiring FHFA, the Federal National Mortgage Association, the Federal Home Loan Mortgage Corporation, and the Federal Home Loan Banks to promote diversity and the inclusion of women and minorities in all activities. Consequently, FHFA published a proposed rule for comment on January 11, 2010, which was intended to achieve that end. The proposal had a comment period of 60 days, but FHFA has decided to extend the comment period an additional 45 days.

DATES: Written comments on the proposed rule must be received on or before April 26, 2010. For additional information, see SUPPLEMENTARY INFORMATION.

ADDRESSES: Submit comments to FHFA by any one of the following methods:

• E-mail: RegComments@fhfa.gov. Please include in the subject line of your submission: “Federal Housing Finance Agency—Proposed Rule: RIN 2590-AA28”.

• Federal eRulemaking Portal: http://www.regulations.gov. Follow the instructions for submitting comments. To ensure timely receipt by the agency include the following information in the subject line of your submission: “Federal Housing Finance Agency—Proposed Rule: RIN 2590-AA28”. If you submit your comment to the Federal eRulemaking Portal, please also send it by e-mail to FHFA at RegComments@fhfa.gov to ensure timely receipt by the agency.

• Mail/Hand Delivery: Alfred M. Pollard, General Counsel, Federal Housing Finance Agency, Fourth Floor, 1700 G Street, NW., Washington, DC 20552, Attention: Public Comments/RIN 2590-AA28. The package should be logged at the Guard Desk, First Floor, on business days between 9 a.m. and 5 p.m.

FOR FURTHER INFORMATION CONTACT: Eric Howard, Equal Employment Opportunity and Diversity Director, Eric.Howard@fhfa.gov, (202) 408-2502, 1625 Eye Street, NW., Washington, DC 20006; or Mark Laponsky, Deputy General Counsel, Mark.Laponsky@fhfa.gov, (202) 414-3832 (not toll-free numbers), Federal Housing Finance Agency, Fourth Floor, 1700 G Street, NW., Washington, DC 20552. The telephone number for the Telecommunications Device for the Deaf is (800) 877-8339.

SUPPLEMENTARY INFORMATION: On January 11, 2010, FHFA published for comment in the Federal Register a proposed rule, in accordance with statutory amendments, to require FHFA, the Federal National Mortgage Association, the Federal Home Loan Mortgage Corporation, and the Federal Home Loan Banks to promote diversity and the inclusion of women and minorities in all activities. The proposed rule will implement this statutory provision. See 75 FR 1289 (January 11, 2010). The comment period for the proposed rule was originally scheduled to close on March 12, 2010; but, FHFA wants to ensure that interested parties have sufficient opportunity to submit thoughtful and considered comments on the important policy and operational issues addressed in the proposed rule. As a result, FHFA is extending the comment period an additional 45 days, until April 26, 2010.

FHFA invites comments on all aspects of the proposed rule and will take all comments into consideration before issuing the final regulation. We will post all public comments we receive without change, including any personal information you provide, such as your name and address, on the FHFA Web site at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at (202) 414-6924.

Dated: February 28, 2010.
Edward J. DeMarco,
Acting Director, Federal Housing Finance Agency.

[FR Doc. 2010-4768 Filed 3-5-10; 8:45 am]

BILLING CODE 8070-01-P